DEPARTMENT OF THE INTERIOR

Bureau of Indian Affairs

Correction to the Notice of Availability of the Draft Environmental Impact Statement for the Proposed Absaloka Mine Crow Reservation South Extension Coal Lease Approval, Mine Development Plan and Related Federal and State Permitting Actions, Big Horn County, MT

AGENCY: Bureau of Indian Affairs, Interior.

ACTION: Notice.

SUMMARY: This notice advises the public that date for the public hearing on the Draft Environmental Impact Statement for the Proposed Absaloka Mine Crow Reservation South Extension Coal Lease Approval, Mine Development Plan and Related Federal and State Permitting Actions, announced in the Federal Register on March 21, 2008, (73 FR 15189) was incorrect. The correct date for the public hearing is April 23, 2008.

DATES: The public hearing will be held April 23, 2008, beginning at 7 p.m. and continuing until all those who register to make statements have been heard.

ADDRESSES: The public hearing will be at the Big Horn County Courthouse, 121 3rd Street West, Hardin, Montana.

FOR FURTHER INFORMATION CONTACT: Rick Stefanic, (406) 247-7911.

SUPPLEMENTARY INFORMATION: This notice is published in accordance with section 1503.1 of the Council of Environmental Quality Regulations (40 CFR, Parts 1500 through 1508) implementing the procedural requirements of the National Environmental Policy Act of 1969, as amended (42 U.S.C. 4371 et seq.), Department of the Interior Manual (516 DM 1-6), and is in the exercise of authority delegated to the Director, Office of Environmental Policy and Compliance, via 516 DM 6.3B. and Environmental Statement Memorandum ESM04-12.6(e).

Willie R. Taylor,
Director, Office of Environmental Policy and Compliance.

[FR Doc. E8-6772 Filed 4-1-08; 8:45 am]

BILLING CODE 4310-W7-P